COMMODITY FUTURES TRADING COMMISSION

17 CFR Parts 3 and 170

Notice Registration as a Futures Commission Merchant or Introducing Broker for Certain Securities Brokers or Dealers

Correction

In rule document 01-20628 beginning on page 43080 in the issue of Friday, August 17, 2001, make the following correction:

On page 43081, in the third column, in footnote number 9, in the second line, “NRA's amendment” should read “NFA's amendment”.

[FR Doc. C1-20628 Filed 9-7-01; 8:45 am]

BILLING CODE 1505-01-D

NUCLEAR REGULATORY COMMISSION

10 CFR Part 72

RIN 3150-AG83

List of Approved Spent Fuel Storage Casks: NAC-MPC Revision

Correction

In proposed rules document 01-21935 beginning on page 45788 in the issue of Thursday, August 30, 2001, make the following correction:

On page 45788, in the third column, in the first complete paragraph, in the sixth line, “November 15, 2001” should read “November 13, 2001 ”.

[FR Doc. C1-21935 Filed 9-7-01; 8:45 am]

BILLING CODE 1505-01-D

SECURITIES AND EXCHANGE COMMISSION

[Release No. 34-44734; File No. SR-NASD-2001-42]

Self-Regulatory Organizations; Notice of Filing and Immediate Effectiveness of Proposed Rule Change and Amendment No. 1 To Extend the Expiration Date of Nasdaq's Transaction Credit Pilot Program

August 22, 2001.

Correction

In notice document 01-21651 beginning on page 45347 in the issue of Tuesday, August 28, 2001, make the following correction:

On page 45348, in the second column, in the last two sentences of the first paragraph, “[insert date 21 days from the date of publication]” should read “September 18, 2001”.

[FR Doc. C1-21651 Filed 9-7-01; 8:45 am]

BILLING CODE 1505-01-D